DEPARTMENT OF ENERGY

Federal Energy Regulatory Commission

[Docket No. ER00-2676-000]

Panda Perkiomen Power, L.P.; Notice of Filing

June 30, 2000.

Take notice that on June 21, 2000, Panda Perkiomen Power, L.P. (Panda Perkiomen), tendered for filing a revised FERC Electric Rate Schedule No. 1 as part of its petition for waivers and blanket approvals under various regulations of the Commission and for an order accepting its FERC Electric Rate Schedule No. 1, which was filed on June 1, 2000, with an effective date of July 31, 2000.

Panda Perkiomen intends to engage in electric power and energy transactions as a marketer. In transactions where Panda Perkiomen sells electric energy, it proposes to make such sales on rates, terms, and conditions to be mutually agreed to with the purchasing party. Neither Panda Perkiomen nor any of its affiliates is in the business of transmitting or distributing electric power.

Rate Schedule No. 1 provides for the sale of energy and capacity at agreed prices.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before July 12, 2000. Protests will be considered by the Commission to determine the appropriate action to be taken, but will not serve to make protestants parties to the proceedings. Any person wishing to become a party must file a motion to intervene. Copies of this filing are on file with the Commission and are available for public inspection. This filing also be viewed on the Internet at http://www.ferc.fed.us/online/rims.htm (call 202-208-2222 for assistance).

Linwood A. Watson, Jr.,
Acting Secretary.

[FR Doc. 00-17169 Filed 7-6-00; 8:45 am]

BILLING CODE 6717-01-M